FEDERAL COMMUNICATIONS COMMISSION

47 CFR Part 1

[WT Docket No. 19-250; RM-11849; Report No. 3168; FRS 17410]

Petition for Reconsideration of Action in Proceedings

AGENCY: Federal Communications Commission.

ACTION: Petition for Reconsideration.

SUMMARY: Petition for Reconsideration (Petition) has been filed in the Commission's proceeding by Gerard Lavery Lederer and Nancy L. Werner, on behalf of Local Governments and National Association of Telecommunications Officers and Advisors (“NATOA”).

DATES: Oppositions to the Petition must be filed on or before March 22, 2021. Replies to an opposition must be filed on or before March 30, 2021.

ADDRESSES: Federal Communications Commission, 45 L Street NE, Washington, DC 20554.

FOR FURTHER INFORMATION CONTACT: Georgios Leris, Competition and Infrastructure Policy Division, Wireless Telecommunications Bureau, (202) 418-1994.

SUPPLEMENTARY INFORMATION: This is a summary of the Commission's document, Report No. 3168, released January 14, 2021. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Implementation of State and Local Governments' Obligation to Approve Certain Wireless Facility Modification Requests Under Section 6409(a) of the Spectrum Act of 2012, published 85 FR 78005, December 3, 2020, in WT Docket No. 19-250 and RM-11849. This document is being published pursuant to 47 CFR 1.429(e). See also 47 CFR 1.4(b)(1) and 1.429(f), (g).

Number of Petitions Filed: 1.

Federal Communications Commission.
Marlene Dortch,
Secretary, Office of the Secretary.

[FR Doc. 2021-04398 Filed 3-4-21; 8:45 am]

BILLING CODE 6712-01-P